DEPARTMENT OF HEALTH AND HUMAN SERVICES

Administration for Children and Families

[Program Announcement No. OCSE 99SIP-1]

Child Support Enforcement Demonstration and Special Projects—Special Improvement Projects

AGENCY: Office of Child Support Enforcement (OCSE), ACF, DHHS.

ACTION: Announcement of the availability of funds and request for competitive applications under the Office of Child Support Enforcement's Special Improvement Projects.

SUMMARY: The Administration of Children and Families (ACF), Office of Child Support Enforcement (OCSE) invites eligible applicants to submit competitive grant applications for special improvement projects which further the national child support mission, vision, and goals which are: all children to have parentage established; all children in IV-D cases to have financial and medical orders; and all children in IV-D cases to receive financial and medical support. Applications will be screened and evaluated as indicated in this program announcement. Awards will be contingent on the outcome of the competition and the availability of funds.

DATES: The closing date for submission of applications is November 6, 2000. See Part IV of this announcement for more information on submitting applications.

ADDRESSES: Application kits (Forms 424, 424A-B; Certifications; and Administration for Children and Families Uniform Project Description [UPD]) containing the necessary forms and instructions to apply for a grant under this program announcement are available from: Administration for Children and Families, Office of Child Support Enforcement, Division of State and Local Assistance, 370 L'Enfant Promenade, S.W., 4th Floor, East Wing, Washington, D.C. 20447 (This is Not the Mailing Address for Submission of Applications, See Part IV, B.); or accessible via OCSE's Website (www.acf.dhhs.gov/programs/cse/)under new announcements; or contact Jean Robinson, Program Analyst, phone (202) 401-5330, FAX (202) 205-4315; e-mail, jrobinson@acf.dhhs.gov.

FOR FURTHER INFORMATION CONTACT: Administration for Children and Families (ACF), OCSE, Susan A. Greenblatt at (202) 401-4849, for specific questions regarding the application or program concerns regarding the announcement.

SUPPLEMENTARY INFORMATION: This program announcement consists of four parts:

Part I: Background—program purpose, program objectives, legislative authority, funding availability, and CFDA Number.

Part II: Project and Applicant Eligibility—eligible applicants, project priorities, and project and budget periods.

Part III: The Review Process—intergovernmental review, initial ACF screening, competitive review and evaluation criteria, and funding reconsideration.

Part IV: The Application—application development, and application submission.

Paperwork Reduction Act of 1995 (Pub. L. 104-13): Public reporting burden for this collection of information is estimated to average 20 hours per response, including the time for reviewing instructions, gathering and maintaining the data needed, and reviewing the collection of information.

The following information collections within this Program Announcement are approved under the following currently valid OMB control numbers: 424 (0348-0043); 424A (0348-0044); 424B (0348-0040); Disclosure of Lobbying Activities (0348-0046); Uniform Project Description (0970-0139 Expiration date 10/31/00).

An agency may not conduct or sponsor, and a person is not required to respond to, a collection of information unless it displays a currently valid OMB control number.

Part I. Background

A. Program Purpose and Objectives

To fund a number of special improvement projects which further the national child support mission to ensure that all children receive financial and medical support from both parents and which advance the provisions of the Personal Responsibility and Work Opportunity Reconciliation Act of 1996 (PRWORA). PRWORA strengthens the ability of the nation's child support program to collect support on behalf of children and families. The law also enables the testing of child support innovations to improve program performance. For FY 2001, we are looking for grants in the following priority areas:

• Improve the management of Undistributed Collections (UDC) in order to decrease or maintain low UDC balances.

• Foster collaboration between IV-D State agencies and partner entities and other states to improve interstate case processing.

• Improve Child Support Orders, Collections and Job Program Referrals for Low-Income Fathers.

• Expand Outreach to the Latino/Hispanic Community.

Specific design specifications for each of these priority areas are set forth under Part II.

OCSE is committed to helping States make measurable program improvements that will enhance the lives of children. In addition, Special Improvement Projects will also be considered which do not fall into one of the specified priority areas but which are in furtherance of efforts under the Government Performance and Results Act (i.e. designing a performance based program), and furthering the goals of the national child support enforcement program—all children to have parentage established; all children in IV-D cases have financial and medical orders; and all children in IV-D cases receive financial and medical support and advance the requirements of the Personal Responsibility and Work Opportunity Reconciliation Act of 1996 (PRWORA).

Applicants should understand that OCSE will not award grants for special improvement projects which (a) duplicate automated data processing and information retrieval system requirements/enhancements and associated tasks which are specified in PRWORA; or (b) which cover costs for routine activities which should be normally borne by the Federal match for the Child Support Program or by other Federal funding sources (e.g. adding staff positions to perform routine CSE tasks). OCSE also has the discretion not to award grants that duplicate existing demonstrations, special projects and/or contracts that cover similar project objectives and activities.

Proposals should be developed with these considerations in mind. Proposals and their accompanying budgets will be reviewed from this perspective.

B. Legislative Authority

Section 452(j), 42 U.S.C. 652(j) of the Social Security Act provides Federal funds for technical assistance, information dissemination and training of Federal and State staff, research and demonstration programs and special projects of regional or national significance relating to the operation of State child support enforcement programs.

Section 453 (42 U.S.C. 653) of the Social Security Act provides Federal funds to cover costs incurred for the operation of the Federal Parent Locator Service.

C. Availability of Funds

Approximately $2 million is available for FY 2001 for all priority areas. Refer to each priority area for estimated number of projects and funding. All grant awards are subject to the availability of appropriated funds. A non-Federal match is not required.

D. CFDA NUMBER: 93.601—Child Support Enforcement

Demonstrations and Special Projects.

Part II. Applicant and Project Eligibility

A. Eligible Applicants

Eligible applicants for these special improvement project grants are State (including Guam, Puerto Rico, and the Virgin Islands) Human Services Umbrella agencies, other State agencies (including State IV-D agencies), Tribes and Tribal Organizations, local public agencies (including IV-D agencies), nonprofit organizations, and consortia of State and/or local public agencies. The Federal OCSE will provide the State CSE agency the opportunity to comment on the merit of local CSE agency applications before final award. Given that the purpose of these projects is to improve child support enforcement programs, it is critical that applicants have the cooperation of IV-D agencies to operate these projects.

Preferences will be given to applicants representing CSE agencies and applicant organizations which have cooperative agreements with CSE agencies. All applications developed jointly by more than one agency organization must identify a single lead organization as the official applicant. The lead organization will be the recipient of the grant award. Participating agencies and organizations can be included as co-participants, subgrantees, or subcontractors with their written authorization.

B. Project Priorities

The following are the specified priority areas for special improvement projects for FY 2001.

Priority Area 1—Improving the Management of Undistributed Collections (UDC)

1. Purpose: The purpose of this solicitation is to assist States to demonstrate new and or more effective methods, control procedures and models to decrease or maintain low UDC balances.

2. Background and Information: Undistributed collections balances vary greatly in amount and differ from State to State. These amounts are often quite significant in relation to total child support enforcement collections. Most states have attempted to address this problem over the years, but OCSE audits in some states underscore the difficulty of States' achieving substantial and permanent reductions.

3. Design Elements in the Application: In order to improve the management of UDC, OCSE is interested in projects which will provide a better understanding of the nature of undistributed collections and that develop effective/innovative processes to address at least one of the following key issues/areas:

• Design a strategy to demonstrate how well a State can improve its UDC balances by using the State Parent Locator Service (SPLS) and Federal Parent Locator Service (FPLS) to determine locations of the custodial parent and ensure more timely disbursement of child support collections.

• Develop effective methods to identify the nature/causes of UDC and develop approaches to reduce or eliminate them.

• Develop cost-effective procedures to ensure that all UDC are identified and reported accurately and according to Federal guidelines.

4. Project and Budget Periods: The project period for this priority area is up to 17 months.

5. Project Budget: It is estimated that there will be one to three grants (ranging from $100,000 to $200,000 for a total of $300,000).

Priority Area 2: Fostering improved interstate case processing

1. Purpose: The purpose of this solicitation is to assist States to demonstrate new and/or more effective methods, procedures and models to foster collaborative efforts between partner entities and states to improve interstate case processing .

2. Background and Information: The child support provisions of welfare reform required all States to adopt the Uniform Interstate Family Support Act (UIFSA) by January 1, 1998. UIFSA provides for uniform rules, procedures, and forms for interstate cases. OCSE has been working with states to implement UIFSA and has also developed standard Federal interstate CSE forms compatible with UIFSA. OCSE organized forums across the country for individuals representing UIFSA and the states to discuss and develop consensus methods for implementing administrative enforcement, direct income withholding, discovery, long-arm, and paternity establishment in interstate cases. Although a great deal of progress has been made over the past couple of years, states are still facing many challenges in the implementation of UIFSA.

3. Design Elements in the Application: In order to foster collaboration to improve interstate case processing under UIFSA, OCSE is interested in projects which develop effective/innovative strategies that address one or more of the following key issues/areas:

• Limited Service Requests: OCSE is soliciting SIP grant applications to demonstrate the feasibility and cost-effectiveness of a stand-alone module for processing interstate limited service requests. Most statewide CSE systems are not currently designed to handle interstate requests that do not need or require the full range of enforcement and reporting functions. Since the cost of modifying the 54 different statewide CSE systems to accommodate limited services requests is expected to be considerable in terms of time and money, OCSE is interested in funding SIP proposals that demonstrate the feasibility of a stand-alone limited services software application module that can be duplicated and utilized by a variety of statewide CSE systems. This stand-alone limited services software application could reside on a separate PC, LAN server or separate partition of a mainframe system. The scope of the limited services module may be limited to a particular type of service (e.g., AEI) or a specific function such as financial management or record keeping or could address all possible limited services (e.g., service of process, hearing requests, etc.). The ability of other State systems to use the software module with the minimum of customization will be considered during the evaluation of the grant. For example, proposals for modules that could be utilized by any State would be favored over proposals that limit applicability to a specific “family” of CSE systems, but both would be favored over a proposal to modify a specific State system in ways that could not easily be replicated elsewhere.

• Case Processing and the Courts: What types of specific collaborative initiatives/methods between the courts and IV-D agencies would assist in processing interstate cases more efficiently and what procedures could help them more effectively use available UIFSA remedies and associated forms? How are States ensuring that the required data elements are correctly secured from courts and reported to IV-D agencies for transmission to the Federal Case Registry? What are the barriers between IV-D agencies and the courts that lead to inefficiencies and ineffective interstate case processing and how can they be overcome? What processes have states put in place to make controlling order determinations, to reconcile arrears under multiple orders, and to notify affected parties, including courts in each state? How can these processes be improved?

Too often IV-D agencies and the courts do not have procedures to notify each other when taking actions on interstate cases, resulting in duplicate efforts and delays. Thus, we want to identify collaborative initiatives/methods that help build communication, avoid duplicate efforts and delays in processing interstate cases.

Direct Withholding and Employers: What are the benefits and pitfalls of using direct withholding under UIFSA compared to interstate income withholding from IV-D agency to IV-D agency in different States? What are solutions to any problems encountered? What happens if there's an obligor contest in a direct withholding case? Is abandoning the direct withholding the best solution or are there ways to resolve these issues through the IV-D agency in the employer State that preserves the direct withholding? What impact does direct income withholding have on other services required in a case? Does it work to do direct withholding and initiate an interstate IV-D case for other necessary enforcement action? In addition, what approaches are being used by IV-D agencies to encourage and foster employer cooperation in wage withholding for interstate cases? Currently, state IV-D agencies are educating employers on using Federally mandated forms for income withholding for their child support cases but more needs to be done to encourage employers' compliance for interstate cases.

• State Clearinghouse Model: What benefits would there be in establishing a State clearinghouse for handling requests from other states attempting direct enforcement other than wage withholding? States frequently encounter difficulties with the lien process and seizures in other states when attempting one-State interstate actions. At the same time, since the other State IV-D agency is not involved in these situations in the traditional way, they may not be able to provide adequate assistance. OCSE is interested in exploring alternatives to traditional methods of offering assistance to other states under direct enforcement for single or targeted remedies (e.g., lien registration, State lottery intercept, etc.). Different models for a clearinghouse could be proposed and the responsibilities and associated costs explored. Provision of selected services, such as enforcement counsel consultations, accessibility to local attorneys, intercession with local authorities, and intervention with non-responding banks and financial institutions (rather than locate and discovery functions), should be considered.

• Administrative Enforcement of Interstate Cases: With respect to high volume automated enforcement in interstate cases under PRWORA, what are promising practices for integrating these requests from other states into the assisting State's own data matching and attachment of assets (such as for financial institutions data matches and levies) in instate cases? What is the best way to avoid making these cases full blown interstate IV-D cases while being able to provide the data match and seizure of assets in an automated way and to keep track of information required to be reported on these cases?

• Case Processing and Use of FPLS: enforcement and collections) to improve these business functions? What new and effective interstate locate methods/processes are being developed through this integration of FPLS data? How are these methods being implemented in an automated fashion? How are caseworkers being sold on the advantages of using “new” FPLS data? Are the levels of state automation and staffing adequate to deal with these new tools?

• Pilot Test A Common Methodology. OCSE is developing a Common Methodology for use by the States. The goal is for the States to have a standardized process and set of quantitative measures for use in measuring the child support collections that are attributable to the use of the State Directories of New Hires (SDNH) and the National Directory of New Hires (NDNH). We are seeking States that would be willing to pilot the Common Methodology and provide a report that includes the recommended modifications and an assessment of its usefulness for the States.

• Tracking Outcomes for Data Matches: What approaches are being used by IV-D agencies to monitor results, measure progress and manage interstate case processing more efficiently? The wealth of data provided from the National Director of New Hires and the Federal Case Registry must be organized and managed in order to track results and program benefits. What methods have been adopted by States for tracking outcomes of data matches and how have results been utilized to demonstrate program benefits (i.e., program methodology, benefit calculation methodology, reports, management information process, and performance measurements)?

• Interstate Forms: With respect to use of interstate forms for withholding, imposition of liens and issuance of administrative subpoenas under PRWORA, are there exemplary techniques for maximizing successful use of these tools in interstate cases? Are there potential problems that arise in their use and tested solutions to those problems? How can these forms be modified to better meet needs of States and other users? Are States able to use these forms electronically and how? What is needed to overcome barriers to electronic transmission through CSENet or other means?

• Family Violence and Case Processing: How can we ensure consistency in policy and procedures in cases affected by both the Family Violence Indicator and UIFSA sections 312 (nondisclosure of information in exceptional circumstances) to ensure consistent and appropriate decision-making for interstate cases? In the UIFSA process, tribunals order information not to be released where a finding has been made that the health, safety, or liberty of a party or child would be unreasonably put at risk by the disclosure of identifying information. Similarly, IV-D agencies place a Family Violence Indicator flag on an individual's record in the State Case Registry where there is a protective order in place or where the State has reasonable evidence of domestic violence or child abuse and the disclosure of such information could be harmful to the custodial parent or the child of such parent. Projects should develop approaches to demonstrate how best to coordinate these different decision-making processes for interstate cases. Projects should identify the benefits/impact of the approach on States' case processing. In addition, how can we provide courts with sufficient information upon which to base their override decisions of the Family Violence Indicator? Currently in the interstate context, one State will not know the basis for a decision of another State to flag a case with the Family Violence Indicator, and this lack of information may prove difficult for judges faced with requests to override the indicator.

• International Child Support Enforcement: What types of collaborative activities between a state or states and foreign jurisdictions would improve international child support cooperation, encouraging other nations to adopt additional UIFSA-like procedures? UIFSA includes provisions which extend IV-D cooperation to foreign nations with substantially similar procedures to UIFSA. Variations in procedures between national systems will require additional measures to be developed and implemented. IV-D agency experience in working cases with other nations will be a crucial factor in development, promulgation, and training regarding innovative techniques crucial to improving international cooperation. Projects should demonstrate methods to improve other nations' judicial and child support agency cooperation (e.g., procedures not requiring the physical presence of a petitioner for rendition of a judgement determining parentage, methods of not charging a mother for costs of paternity testing unless a paternity allegation is proven to be groundless, utilizing electronic communication and currency transfer mechanisms to improve security and lower costs) between one or more states and foreign jurisdictions.

4. Project and Budget Periods: Generally, project and budget periods for these projects will be up to 17 months. OCSE will consider projects up to 36 months, if unique circumstances warrant. If OCSE approves a project for a time period longer than 17 months, OCSE will provide funding in discrete 12-month increments, or “budget periods.” Funding beyond the first 12-month budget period is not guaranteed. Rather, future funding will depend on the grantee's satisfactory performance and the availability of future appropriations.

5. Project Budget: It is estimated that there will be one to four grants awarded (ranging from $100,000 to $300,000) for a total of $500,000 for this priority area.

Priority Area 3—Improving Child Support Orders, Collections and Job Program Referrals for Low-Income Fathers

1. Purpose: The purpose of this solicitation is to assist States to demonstrate new and or more effective methods of setting and adjusting child support orders and amounts for low income non-custodial parents. Demonstrations could include projects to establish child support orders for low income fathers based upon actual income figures rather than ‘default’ orders through improved contact with non custodial parents and improved ‘service of process’ prior to establishment of the child support award amounts. A state could also demonstrate using alternative measures to ascertain income from new hire reporting or other computerized wage information.

2. Background and Information: A study by the Office of the Inspector General (OIG) of the Department of Health and Human Services indicates that most states charge a non custodial parent for child support on a retrospective basis either back to the date of filing or the date of the birth of the child or some other policy. For low income fathers this may create a sizable child support amount relative to the ability to afford child support as a result there are higher rates of non-payment for low-income fathers with long periods of retroactivity. Default cases (where the non-custodial parent does not show up for or provide income information in establishing the child support order) where a minimum child support order is imposed also have higher rates of non-payment. Many states add charges for birthing expenses, the cost of paternity tests, court fees and other services fees—up front charges to the retroactive child support amounts, this also raises the arrearages and decreases the likelihood of collection. As a result low-income cases have very high rates of arrearages, a median amount of $3,000 per case; in many cases this further discourages the low-income father from paying or being able to pay. However, States rarely downwardly adjust child support amounts or compromise (suspend collection) of high arrearages even when allowed. Also, use of alternative computerized sources of income when establishing Child Support Orders for default cases is rare. Finally, the study finds that states do not link low income or unemployed non-custodial parents to job programs.

3. Design Elements in the Application: In order to improve the collections in the child support program for low income non-custodial parents the states should include one or more of the following design elements in their demonstration proposal. Potential Project outcomes should include results in terms of collections per case, collection rate, child support compliance or collections as a percent of the Child Support order; improvements in current payments and payments on arrearages, and improvements in employment and earnings and so forth.

(a) In order to improve the setting of child support orders for low-income non-custodial parents the States should design new improved approaches to setting child support orders based upon the actual available income of the recipient. The State should develop approaches to actually reach non-custodial parents when setting orders; they should work on techniques to encourage attendance and cooperation with child support hearings. This may entail development and use of more effective service of process and other due process measures than now are used. Also, if non-custodial parents do not attend the hearing or if it looks like unreliable or questionable income is shown, the states should use alternative computerized sources of income (e.g. social security, new hire, tax information and other) to identify the actual income of the non-custodial parent. If this fails, states should develop alternative measures for setting minimum orders and for shortening the period of retrospectively defining other items which would be included in the amounts (e.g., birthing costs, late fees etc.) The demonstration would test the effects on collections of using different approaches.

(b) For existing and longer term cases with arrearages the State should research its laws on allowing compromising state child support amounts (suspending the collection on amounts of child support owed to the State). If allowed, the States will review a number of low-income cases with high arrearages and if there are valid excuses for non-payment, apply compromise policies for a period, if payment on current collections appears to be in good faith. Some compromises could be to reduce the amount of retrospectivity; some could exclude or ease the responsibility for up-front charges (e.g., medical expenses, and paternity and court fees). Compromises should be conditioned on keeping up with current child support payments. The state should see whether this improves collections in high debt cases.

(c) For some cases, where child support ordered amounts exceed current income of the non-custodial parent, the States should develop new techniques to downwardly modify existing child support orders using actual income proof and or computerized data on income, as discussed above.

(d) Where the non-custodial parents are unemployed or underemployed, the state should identify and refer these persons to job skills, job readiness or training programs. Some existing programs include: ‘Welfare to Work’, TANF Block Grant programs, Child Support Work Requirement Programs, and other Federal, State or local programs.

(e) Where the non-custodial parent is incarcerated and owes child support way beyond his means to pay, the States should demonstrate approaches to enhance income and to reduce child support orders and arrearages.

4. Project and Budget Periods: The project period for this priority area is up to 17 months.

5. Project Budget: It is estimated that there will be one to five grants (ranging from $100,000 to $300,000) for a total of $500,000 for this priority area.

Priority Area 4: Projects which further Outreach to the Latino/Hispanic Community

1. Purpose: To design and test new models for conducting outreach activities for the traditionally underserved Latino/Hispanic community. The goal of outreach activities would be to increase the number of Latino/Hispanic children who receive child support enforcement services; i.e., to have parentage established, support orders established (including medical), and to receive financial and medical support. These projects would support the Department of Health and Human Services' “Hispanic Agenda for Action: Improving Services to Hispanic Americans.” This initiative seeks to strengthen the Department's efforts to improve service delivery to Hispanic customers.

Demographic data from 1998 indicates that Hispanics/Latinos are both the youngest and fastest growing segment of the population at almost 32 million with 34 percent of children living in poverty. Applicants may propose projects that provide outreach to underserved communities other than the Latino/Hispanic population if they can demonstrate that the targeted population presents an emerging major caseload concern for the State/local child support enforcement program.

2. Background and Information: OCSE is looking for projects that will test new interventions and approaches to reach out to underserved communities so that they may receive child support enforcement services. Such projects may include a focus on: collecting information and data on underserved communities and analyzing the current level of service and the need for additional services; overcoming language (or cultural) barriers to customer service; improving the knowledge of service providers on the customer's status, including understanding the population's unique circumstances, status, norms, and values on support and paternity establishment; father involvement and/or child access and visitation; or enforcement.

This can also include planning grants that may lead to interventions that would increase the State/local child support program's performance in these areas. OCSE encourages collaborations with units of local governments and other entities such as tribal governments, community-based organizations such as community action agencies, faith-based organizations that have registered as non-profits or other non-profit entities.

3. Design Elements in the Application: OCSE is interested in exploring alternatives to traditional models and methods of delivering child support enforcement services, and seeks applicants to demonstrate improved ways of offering assistance to community groups with language and cultural issues. Applicants are encouraged to apply innovative thinking or thinking “outside the box” in approaching how to apply and test new interventions, research activities, or improved ways of doing business (within Federal law and regulations) and put them into effect. In order to improve child support enforcement services provided to underserved communities, OCSE is interested in projects which further outreach to Latino/Hispanic families, and that develop effective/innovative processes to address one or more of the following key issues/areas:

• Data—Design a strategy, effective methods/procedures, and reporting to demonstrate how improved collection and use of data can help State/local agencies increase and improve child support enforcement services to underserved communities. Demographic data could include (e.g., minority population, country of origin, new immigrants, those holding more than on job, both genders, etc.). Also, to draw a comparison of the level of services provided to the underserved population and the general population, data could include information on the uniqueness of the community group (background, values, needs, capacity, etc.), types of child support enforcement assistance sought and provided, and overall outcomes or effectiveness of the child support program services for that group compared to the general population.

• Barriers—Develop effective methods to identify the nature/causes of barriers to effective child support enforcement service delivery for customers with language and diversity issues and develop approaches to reduce or eliminate them (e.g. staff resources/training, coordination with other programs, language differences, understanding of culture and values, emphasis on roles of both parents, citizenship status, domestic violence, etc.).

• Consumer Education/Communication Products—Design a strategy, and effective methods, procedures, and products (presentations, videos, pamphlets, forms, use of media, etc.) to ensure that information on child support enforcement services targets the understanding of all customers, utilizing language, literacy levels, culture, and values of that community.

4. Project and Budget Periods: The length of the project should not exceed 17 months.

5. Project Budget: It is estimated that there will be one to five grants (ranging from $100,000 to $300,000) for a total of $500,000 for this priority area.

Other: OCSE will target funding for projects which fall under the two priority areas described above. However, OCSE will also screen and evaluate smaller scale projects to cover projects outside the scope of these priority areas, consistent with the legislative authority described under Part I.B., subject to the availability of funds. Eligible applicants should describe how the special improvement project will improve the effectiveness of the child support program and promote a new focus on results, service quality, management/organizational innovations, outreach or public satisfaction.

Under this “Other” category, OCSE is particularly interested in (a) projects which focus on effective enforcement tools, foster cooperative relationships with law enforcement; or demonstrate other effective methods to increase collections; or (b)demonstration projects that test and evaluate model review and adjustment procedures that focus on one of the following four areas: (1) Review and adjustment of child support orders at entrance and/or exit from the Temporary Assistance for Needy Families (TANF) Program; (2) review and adjustment of medical support orders; (3) targeting periodic review and adjustment by type of case; and (4) or targeting periodic review and adjustment of cases where the noncustodial parent is incarcerated or has no income.

Applicants should understand that OCSE will not award grants for special improvement projects which (a) duplicate automated data processing and information retrieval system requirements/enhancements and associated tasks which are specified in PRWORA; or (b) which cover costs for routine activities which should be normally borne by the Federal match for the Child Support Program or by other Federal funding sources (e.g. adding staff positions to perform routine CSE tasks.) OCSE also has the discretion not to award grants that duplicate existing demonstrations, special projects and/or contracts that cover similar project objectives and activities.

It is estimated that there will be up to five grants to be awarded in the “Other” category up to $75,000 each and the project and budget period will be up to 17 months; however, review and adjustment demonstrations may be funded at an increased level for a project period up to thirty-six months, with a budget period of 12 months; additional funding beyond the first 12 months will depend on the availability of future appropriations.

Part III: The Review Process

A. Intergovernmental Review

This program is covered under Executive Order 12372, “Intergovernmental Review of Federal Programs,” and 45 CFR Part 100, “Intergovernmental Review of Department of Health and Human Services Programs and Activities.” Under the Order, States may design their own processes for reviewing and commenting on proposed Federal assistance under covered programs.

Note: State/territory participation in the intergovernmental review process does not signify applicant eligibility for financial assistance under a program. A potential applicant must meet the eligibility requirements of the program for which it is applying prior to submitting an application to its single point of contact (SPOC), if applicable, or to ACF.

As of August 23, 1999, the following jurisdictions have elected not to participate in the Executive Order process. Applicants from these jurisdictions or for projects administered by federally-recognized Indian Tribes need take no action in regard to E.O. 12372: Alabama, Alaska, American Samoa , Colorado, Connecticut, Hawaii, Idaho, Kansas, Louisiana, Massachusetts, Minnesota, Montana, Nebraska, New Jersey, Ohio, Oklahoma, Oregon, Pennsylvania, South Dakota, Tennessee, Vermont, Virginia, Washington.

Although the jurisdictions listed above no longer participate in the process, entities which have met the eligibility criteria of the program may still apply for a grant even if a State, Territory, Commonwealth, etc., does not have a SPOC. All remaining jurisdictions participate in the Executive Order process and have established SPOCs. Applicants from participating jurisdictions should contact their SPOCs as soon as possible to alert them of the prospective applications and receive instructions.

Applicants must submit any required material to the SPOCs as soon as possible so that the program office can obtain and review SPOC comments as part of the award process. The applicant must indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Office of Child Support Enforcement, Office of Grants Management, Attention: Mary Nash, Grants Management Officer, 370 L'Enfant Promenade, SW., 4th Floor, West Wing, Washington, DC 20447.

A list of the Single Points of Contact for each State and Territory is included with the application materials for this program announcement.

B. Initial ACF Screening

Each application submitted under this program announcement will undergo a pre-review to determine that (1) the application was received by the closing date and submitted in accordance with the instructions in this announcement and (2) the applicant is eligible for funding.

It is necessary that applicants state specifically which priority area they are applying for. Applications will be screened for priority area appropriateness. If applications are found to be inappropriate for the priority area in which they are submitted, applicants will be contacted for verbal approval of redirection to a more appropriate priority area.

C. Competitive Review and Evaluation Criteria

Applications which pass the initial ACF screening will be evaluated and rated by an independent review panel on the basis of specific evaluation criteria. The evaluation criteria were designed to assess the quality of a proposed project, and to determine the likelihood of its success. The evaluation criteria are closely related and are considered as a whole in judging the overall quality of an application. Points are awarded only to applications which are responsive to the evaluation criteria within the context of this program announcement. Proposed projects will be reviewed using the following evaluation criteria:

(1) Criterion I: Objectives and Need for Assistance (Maximum 25 points)

The application should demonstrate a thorough understanding and analysis of the problem(s) being addressed in the project, the need for assistance and the importance of addressing these problems in improving the effectiveness of the child support program. The applicant should describe how the project will address this problem(s) through implementation of changes, enhancements and innovative efforts and specifically, how this project will improve program results. The applicant should address one or more of the activities listed under the “Design Elements in the Application” described above for the specific priority area they are applying for (refer to Part II.B. Project Priorities). The applicant should identify the key goals and objectives of the project; describe the conceptual framework of its approach to resolve the identified problem(s); and provide a rationale for taking this approach as opposed to others.

(2) Criterion II: Approach (Maximum: 30 points)

A well thought-out and practical management and staffing plan is mandatory. The application should include a detailed management plan that includes time-lines and detailed budgetary information. The main concern in this criterion is that the applicant should demonstrate a clear idea of the project's goals, objectives, and tasks to be accomplished. The plan to accomplish the goals and tasks should be set forth in a logical framework. The plan should identify what tasks are required of any contractors and specify their relevant qualifications to perform these tasks. Staff to be committed to the project (including supervisory and management staff) at the state and/or local levels must be identified by their role in the project along with their qualifications and areas of particular expertise. In addition, for any technical expertise obtained through a contract or subgrant, the desired technical expertise and skills of proposed positions should be specified in detail. The applicant should demonstrate that the skills needed to operate the project are either on board or can be obtained in a reasonable time.

(3) Criterion III: Evaluation (Maximum: 30 points)

The applicant should describe the cost effective methods which will be used to achieve the project goals and objectives; the specific results/products that will be achieved; how the success of this project can be measured and how the success of this project has broader application in furthering national child support initiatives and/or providing solutions that could be adapted by other states/jurisdictions. A discussion of data availability and outcome measures to be used should be included. Describe the collection and reporting system to be used.

(4) Criterion IV: Budget and Budget Justification (Maximum 10 points)

The project costs need to be reasonable in relation to the identified tasks. A detailed budget (e.g., the staff required, equipment and facilities that would be leased or purchased) should be provided identifying all agency and other resources (i.e., state, community other program—TANF/Head Start) that will be committed to the project. Grant funds cannot be used for capital improvements or the purchase of land or buildings. Explain why this project's resource requirements cannot be met by the state/local agency's regular program operating budget.

(5) Criterion V: Preferences (Maximum 5 points)

Preference will be given to those grant applicants representing IV-D agencies and applicant organizations who have cooperative agreements with IV-D agencies.

D. Funding Reconsideration

After Federal funds are exhausted for this grant competition, applications which have been independently reviewed and ranked but have no final disposition (neither approved nor disapproved for funding) may again be considered for funding. Reconsideration may occur at any time funds become available within twelve (12) months following ranking. ACF does not select from multiple ranking lists for a program. Therefore, should a new competition be scheduled and applications remain ranked without final disposition, applicants are informed of their opportunity to reapply for the new competition, to the extent practical.

Part IV. The Application

A. Application Development

In order to be considered for a grant under this program announcement, an application must be submitted on the forms supplied and in the manner prescribed by ACF. Application materials including forms and instructions are available from the contact named under the ADDRESSES section in the preamble of this announcement. The length of the application, excluding the application forms, certifications, and resumes, should not exceed 20 pages. A page is a single-side of an 8½′ x 11″′ sheet of plain white paper. The narrative should be typed double-spaced on a single-side of an 8½″ x 11″ plain white paper, with 1″ margins on all sides. Applicants are requested not to send pamphlets, maps, brochures or other printed material along with their application as these are difficult to photocopy. These materials, if submitted, will not be included in the review process. Each page of the application will be counted (excluding required forms, certifications and resumes) to determine the total length.

The project description should include all the information requirements described in the specific evaluation criteria outlined in the program announcement under Part III.C. The Administration for Children and Families Uniform Project Description in the application kit provides general requirements for these evaluation criteria (i.e., Objectives and Need for Assistance; Approach; Evaluation; Budget and Budget Justification).

B. Application Submission

(1) Mailed applications postmarked after the closing date will be classified as late and will not be considered in the competition.

2. Deadline. Mailed applications shall be considered as meeting an announced deadline if they are either received on or before the deadline date or sent on or before the deadline date and received by ACF in time for the independent review to: U.S. Department of Health and Human Services, Administration for Children and Families, Office of Grants Management, Office of Child Support Enforcement, Attention: Mary Nash, 370 L'Enfant Promenade, SW., 4th Floor West, Washington, DC 20447.

Applicants must ensure that a legibly dated U.S. Postal Service postmark or a legibly dated, machine-produced postmark of a commercial mail service is affixed to the envelope/package containing the application(s).

To be acceptable as proof of timely mailing, a postmark from a commercial mail service must include the logo/emblem of the commercial mail service company and must reflect the date the package was received by the commercial mail service company from the applicant. Private Metered postmarks shall not be acceptable as proof of timely mailing. (Applicants are cautioned that express/overnight mail services do not always deliver as agreed).

Express/overnight mail services should use the 901 D Street ADDRESS instructions as shown below.)

Applications handcarried by applicants, applicant couriers, or by other representatives of the applicant using express/overnight mail services, will be considered as meeting an announced deadline if they are received on or before the deadline date, between the hours of 8:00 a.m. and 4:30 p.m., EST, addressed to the U.S. Department of Health and Human Services, Administration for Children and Families, Attention: Mary Nash, Office of Grants Management, Office of Child Support Enforcement, and delivered at ACF Mailroom, 2nd Floor (near loading dock), Aerospace Building, 901 D Street, SW., Washington, DC 20024, between Monday and Friday (excluding Federal holidays). The address must appear on the envelope/package containing the application. ACF cannot accommodate transmission of applications by fax or through other electronic media. Therefore, applications transmitted to ACF electronically will not be accepted regardless of date or time of submission and time of receipt.

3. Late applications. Applications that do not meet the criteria above are considered late applications. ACF shall notify each late applicant that its application will not be considered in the current competition.

4. Extension of deadlines. ACF may extend an application deadline when circumstances such as acts of God (floods, hurricanes, etc.) occur, or when there are widespread disruption of the mail service, or in other rare cases. Determinations to extend or waive deadline requirements rest with ACF's Chief Grants Management Officer.

Dated: August 30, 2000.
Paul K. Legler,
Assistant Commissioner, Office of Child Support Enforcement.

[FR Doc. 00-22752 Filed 9-5-00; 8:45 am]

BILLING CODE 4184-01-P